DEPARTMENT OF ENERGY

Federal Energy Regulatory Commission

[Project No. 1744-041]

Notice of Application Tendered for Filing With the Commission; PacifiCorp

Take notice that the following hydroelectric application has been filed with the Commission and is available for public inspection.

a. Type of Application: Major Constructed Project.

b. Project No.: 1744-041.

c. Date filed: May 30, 2018.

d. Applicant: PacifiCorp.

e. Name of Project: Weber Hydroelectric Project.

f. Location: On the Weber River, in Weber, Davis, and Morgan Counties, Utah. The project occupies 14.94 acres of United States lands administered by the U.S. Forest Service.

g. Filed Pursuant to: Federal Power Act 16 U.S.C. 791 (a)-825(r).

h. Applicant Contact: Eve Davies, PacifiCorp—Renewable Resources, 1407 West North Temple, Suite 210, Salt Lake City, UT 84116; (801) 220-2245; email—eve.davies@pacificorp.com.

i. FERC Contact: Evan Williams at (202) 502-8462; or email at evan.williams@ferc.gov.

j. The application is not ready for environmental analysis at this time.

k. The existing Weber Project consists of: (1) A 114-foot-long, 27-foot-high concrete diversion dam that includes a low-level outlet, a 35-foot-long intake structure, and a 79-foot-long section containing two 29-foot-long, 10-foot-high radial gates; (2) a 3-foot by 18-foot non-operative fish passage structure that is used to pass minimum flows through a calibrated slide gate opening at the dam; (3) an 8.4-acre reservoir having a total storage of approximately 42 acre-feet at elevation 4,798 feet mean sea level; (4) a 9,107-foot-long, 5-foot to 6.3-foot-diameter steel penstock partially encased in concrete, and buried for most of its length; (5) a powerhouse with one 3,850-kilowatt generating unit; (6) a 36-foot-long, by 20-foot-wide, by 30-foot-deep concrete tailrace structure, integrated into the powerhouse foundation, which returns flows directly into the Weber River on the south side of the powerhouse; (7) a 77-foot-long, 46-kilovolt transmission line; and (8) appurtenant facilities. The project is estimated to generate an average of 16,932 megawatt-hours annually. PacifiCorp proposes to build a new fish passage structure at the edge of the existing diversion dam in an area that currently has graded, unvegetated soil.

l. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Procedural schedule: The application will be processed according to the following preliminary Hydro Licensing Schedule. Revisions to the schedule will be made as appropriate.

Issue Notice of Acceptance | June 2018.
Issue Notice Soliciting Final Terms and Conditions | August 2018.
Commission issues EA | March 2018.

Dated: June 12, 2018.
Kimberly D. Bose,
Secretary.

[FR Doc. 2018-12945 Filed 6-15-18; 8:45 am]

BILLING CODE 6717-01-P